DEPARTMENT OF COMMERCE

International Trade Administration

[A-337-803]

Fresh Atlantic Salmon From Chile: Notice of Extension of Time Limit for Final Results of Antidumping Duty Administrative Review

AGENCY: Import Administration, International Trade Administration, Department of Commerce.

EFFECTIVE DATE: December 3, 2002.

FOR FURTHER INFORMATION CONTACT: Constance Handley or Salim Bhabhrawala, Office 5, Group II, AD/CVD Enforcement, Import Administration, International Trade Administration, U.S. Department of Commerce, 14th Street and Constitution Avenue, NW., Washington, DC 20230; telephone: (202) 482-0631 and (202) 482-1784, respectively.

Statutory Time Limits

Section 751(a)(3)(A) of the Tariff Act of 1930, as amended (the Act), requires the Department to make a preliminary determination within 245 days after the last day of the anniversary month of an order for which a review is requested and a final determination within 120 days after the date on which the preliminary determination is published. However, if it is not practicable to complete the review within these time periods, section 751(a)(3)(A) of the Act allows the Department to extend the time limit for the preliminary determination to a maximum of 365 days and for the final determination to 180 days from the date of publication of the preliminary determination (or 300 days if the Department does not extend the time limit for the preliminary determination).

Background

On August 20, 2001, we published in the Federal Register the notice of initiation of the third administrative review of the antidumping duty order on fresh Atlantic salmon from Chile, covering the period July 1, 2000, through June 30, 2001. See Initiation of Antidumping and Countervailing Duty Administrative Reviews and Requests for Revocation in Part, 66 FR 43570 (August 20, 2001). On January 22, 2002, the Department published in the Federal Register the notice of an extension of the preliminary results of the third administrative review. See Fresh Atlantic Salmon From Chile: Extension of Preliminary Results of Antidumping Duty Administrative Review, 67 FR 2856 (January 22, 2002). On August 7, 2002, the Department published the preliminary results of the third administrative review. See Notice of Preliminary Results of Antidumping Duty Administrative Review, Preliminary Determination to Revoke the Order in Part, and Partial Rescission of Antidumping Duty Administrative Review: Fresh Atlantic Salmon From Chile, 67 FR 51182 (August 7, 2002) (Preliminary Results). In our notice of preliminary results, we stated our intention to issue the final results of this review no later than December 5, 2002.

Extension of Time Limit for Final Results of Review

We determine that it is not practicable to complete the final results of this review within the original time limit. Therefore, the Department is extending the time limit for completion of the final results until no later than February 3, 2003. See Decision Memorandum from Constance Handley to Gary Taverman, dated concurrently with this notice, which is on file in the Central Records Unit, Room B-099 of the main Commerce building.

This extension is in accordance with section 751(a)(3)(A) of the Act.

Dated: November 27, 2002.
Gary Taverman,
Acting Deputy Assistant Secretary, Group II, Import Administration.

[FR Doc. 02-30628 Filed 12-2-02; 8:45 am]

BILLING CODE 3510-DS-P